DEPARTMENT OF DEFENSE

Office of the Secretary

32 CFR Part 242

[Docket ID: DOD-2020-OS-0047]

RIN 0790-AL01

Admissions Policies and Procedures for the School of Medicine, Uniformed Services University of the Health Sciences

AGENCY: Department of Defense.

ACTION: Final rule.

SUMMARY: This final rule removes the DoD regulation which is outdated, contains internal guidance for admissions to the School of Medicine, Uniformed Services University of the Health Sciences, reiterates statutory requirements, and is otherwise subject to the military function exemption to rulemaking.

DATES: This rule is effective on December 13, 2021.

FOR FURTHER INFORMATION CONTACT: Steven J. Weiss, Associate General Counsel, Uniformed Services University of the Health Sciences, (301) 295-3028.

SUPPLEMENTARY INFORMATION: This rule, first published on February 6, 1976 (41 FR 5389), “establishes policies and procedures and assigns responsibilities to the President of the University and the Secretaries of the Military Departments for the selection of entrants to the School of Medicine of the Uniformed Services University of the Health Sciences.” Part 242 was amended once on July 28, 1989, in 54 FR 31335 to make administrative changes and to raise the admission age from 32 to 34 for students who have served on active duty. The rule is outdated, contains internal guidance, reiterates statutory requirements (10 U.S.C. 2101, et seq.), and is otherwise subject to the military function exemption to rulemaking.

It has been determined that publication of this CFR part removal for public comment is impracticable, unnecessary, and contrary to public interest since it is based on removing DoD internal policies and procedures that are publicly available in DoD Instruction 5105.45, “Uniformed Services University of the Health Sciences (USU),” most recently updated on May 30, 2019, at https://www.esd.whs.mil/Portals/54/Documents/DD/issuances/dodi/510545p.pdf?ver=2019-05-30-074128-497. This rule is not significant under Executive Order 12866, “Regulatory Planning and Review.”

List of Subjects in 32 CFR Part 242

Medical and dental schools, Organization and functions (Government agencies).

PART 242—[REMOVED]

Accordingly, by the authority of 5 U.S.C. 301, 32 CFR part 242 is removed.

Dated: December 7, 2021.
Aaron T. Siegel,
Alternate OSD Federal Register Liaison Officer, Department of Defense.

[FR Doc. 2021-26864 Filed 12-10-21; 8:45 am]

BILLING CODE 5001-06-P